OFFICE OF PERSONNEL MANAGEMENT

Hispanic Council on Federal Employment

AGENCY: Office of Personnel Management.

ACTION: Announcement of meeting.

SUMMARY: The Hispanic Council on Federal Employment (Council) meeting will be held on at the following time and location shown below. The Council is an advisory committee composed of representatives from Hispanic organizations and senior Government officials. Along with its other responsibilities, the Council shall advise the Director of the U.S. Office of Personnel Management on matters involving the recruitment, hiring, and advancement of Hispanics in the Federal workforce. The Council is chaired by the Director of the U.S. Office of Personnel Management.

DATES: September 25, 2018 from 1:30 p.m. to 3:00 p.m.

ADDRESSES: Office of Personnel Management, 1900 E St. NW, Washington, DC 20415, Executive Conference Room.

FOR FURTHER INFORMATION CONTACT: Allison Wise, Program Director, Diversity and Inclusion, U.S. Office of Personnel Management, 1900 E St. NW, Suite 7439-I, Washington, DC 20415. Phone (202) 606-8462, FAX (202) 606-6012 or email at Allison.Wise@opm.gov.

SUPPLEMENTARY INFORMATION: The meeting is open to the public. Please contact the U.S. Office of Personnel Management if you wish to present material to the Council at any of the meetings. The manner and time prescribed for presentations may be limited, depending upon the number of parties that express interest in presenting information.

Office of Personnel Management.
Jeff T.H. Pon,
Director.

[FR Doc. 2018-18323 Filed 8-23-18; 8:45 am]

BILLING CODE 6820-B2-P